DEPARTMENT OF HOMELAND SECURITY

Coast Guard

33 CFR Part 117

[Docket No. USCG-2011-0287]

Drawbridge Operation Regulation; Mispillion River, Milford, DE

AGENCY: Coast Guard, DHS.

ACTION: Notice of temporary deviation from regulations.

SUMMARY: The Commander, District Fifth Coast Guard District, has issued a temporary deviation from the regulation governing the operation of the Route 1/Rehoboth Blvd Bascule Bridge across the Mispillion River, mile 11.0, at Milford, DE. This deviation allows the bridge to remain in the closed position for two months to accommodate the necessary bridge cleaning and painting of the bridge.

DATES: This deviation is effective from 12 a.m. on May 13, 2011 through 11:59 p.m. on July 17, 2011.

ADDRESSES: Documents mentioned in this preamble as being available in the docket are part of docket USCG-2011-0287 and are available online by going to http://www.regulations.gov, inserting USCG-2011-0287 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Bridge Management Specialist, Coast Guard; telephone 757-398-6629, e-mail Linsey.R.Middleton@uscg.mil. If you have questions on viewing the docket, call Renee V. Wright, Program Manager, Docket Operations, telephone 202-366-9826.

SUPPLEMENTARY INFORMATION: Marinis Bros. Inc., (Marinis) on behalf of Delaware Department of Transportation, has requested a temporary deviation from the current operating regulation of the Route 1/Rehoboth Blvd Bascule Bridge across the Mispillion River, mile 11.0, at Milford, DE. The vertical clearance of this bridge is five feet at mean high water (MHW) in the closed position and unlimited in the open position. During this deviation period, the vertical clearance will be limited to four feet at MHW due to the scaffolding that will be used for the maintenance of the bridge. Vessels that are able to pass through the bridge may do so at anytime. The bridge is able to open for emergencies if at least five business days are given. There are no alternate routes available to vessels.

The current operating schedule for the bridge is set out in 33 CFR 117.241. The regulation requires the bridge to open on signal if at least 24 hours notice is given. The requested deviation is to accommodate painting and cleaning of the bridge. To carry out the bridge maintenance safely and successfully, the draw of the bridge will be maintained in the closed-to-navigation position from 12 a.m. on May 13, 2011 through 11:59 p.m. on July 17, 2011.

Logs from the past two years have shown that there are minimal openings during the period of time this deviation will be enforced. The majority of vessel traffic is recreational boaters. Most, if not all, of the past openings have been requested by one specific resident of the area. The Coast Guard and Marinis have been in contact with this resident and have worked together to accommodate any necessary bridge openings during the temporary deviation. The Coast Guard will inform the users of the waterway through our Local and Broadcast Notices to Mariners so that mariners can arrange their transits to minimize any impact caused by the temporary deviation.

In accordance with 33 CFR 117.35(e), the drawbridge must return to its regular operating schedule immediately at the end of the designated time period. This deviation from the operating regulations is authorized under 33 CFR 117.35.

Dated: April 18, 2011.
Waverly W. Gregory, Jr.,
Chief, Bridge Administration Branch, Fifth Coast Guard District.

[FR Doc. 2011-10514 Filed 4-29-11; 8:45 am]

BILLING CODE 9110-04-P